DEPARTMENT OF THE INTERIOR

Bureau of Indian Affairs

Notice of Availability of the Final Environmental Impact Statement for the Proposed Oil Spill Response Facility at Shepard Point, near Cordova, Alaska

AGENCY: Bureau of Indian Affairs, Interior.

ACTION: Notice.

SUMMARY: This notice advises the public that the Bureau of Indian Affairs (BIA), with the cooperation of the Native Village of Eyak, the Federal Highway Administration, and the U.S. Army Corps of Engineers, intends to file a Final Environmental Impact Statement (FEIS) with the U.S. Environmental Protection Agency for the proposed oil spill facility at Shepard Point, near Cordova, Alaska, and that the FEIS is now available for public review. The purpose of the proposed project, the Cordova Area Oil Spill Facility, is to provide a deepwater staging facility for the rapid deployment of equipment to the sites of any oil spills that might occur in the Prince William Sound and environs.

DATES: The Record of Decision on the proposed action will be issued on or after January 30, 2007. Any comments on the FEIS must arrive by January 29, 2007.

ADDRESSES: You may hand carry written comments to the BIA's Alaska Regional Office at 709 West 9th Street, 3rd Floor Federal Building, Juneau, Alaska, or mail them to Kristin K'eit, Environmental Scientist, Bureau of Indian Affairs, Alaska Regional Office, Division of Environmental and Cultural Resource Management, P.O. Box 25520, Juneau, Alaska 99802-5520. You may also fax your comments to (907) 586-7044, or submit them electronically at the project Web site, http://www.cordovarf@urscorp.com.

Note: BIA cannot receive electronic comments directly via e-mail at this time. Please include your name, return address, and the caption, “FEIS Comments, Proposed Cordova Oil Spill Response Facility, Cordova, Alaska,” on the first page of your written comments.

To obtain a copy of the FEIS, please contact Kristin K'eit at the mailing address above or her telephone number below. Copies of the FEIS are available for public review at the BIA's Alaska Regional Office in Juneau and at the Public Libraries in Juneau, Cordova and Anchorage, Alaska. Copies of the FEIS have also been sent to agencies and individuals who participated in the scoping process and to all others who have previously requested copies of the document.

FOR FURTHER INFORMATION CONTACT: Kristin K'eit, (907) 586-7423.

SUPPLEMENTARY INFORMATION: The proposed action that is the focus of this Environmental Impact Statement (EIS) is to construct an oil spill response facility at Shepard Point near Cordova, consisting of a dedicated deepwater port, additional staging and storage area, and a 4.5 mile access road to the Cordova road system. The facility will allow all tide transfer of out-of-region supplies such as booms, skimmers, sorbents, anchors, tools and personal protective equipment from the all weather airport at Cordova to a wider variety of response vessels than can currently use Cordova's port. The BIA determined that an EIS is required due to the potentially significant effects of the project. Construction of the Cordova Oil Spill Response Facility would enhance the regional spill response capability that presently exists in Prince William Sound by providing all tide access and efficient flow of pre-positioned and out-of-region equipment, supplies and personnel to vessels responding to oil spills in Prince William Sound and the northern Gulf of Alaska.

The proposed action is one of three Prince William Sound oil spill response facilities identified for construction in the 1992 Alyeska Settlement Agreement and Consent Decree (Alyeska Consent Decree), and the only one that has not yet been constructed. The Shepard Point Road is identified as a baseline transportation project in the 2001 Prince William Sound Regional Transportation Plan, included in the State Transportation Improvement Program, and listed as the top priority in the Native Village of Eyak's Tribal Transportation Plan. The Alaska State Legislature appropriated funds in 1993 for construction of a road to Shepard Point in support of an oil spill response facility and deepwater port at Shepard Point. The Cordova City Council passed a resolution in the spring of 2004 supporting development of the Shepard Point oil spill response facility.

The purpose of this project is to:

• Construct an oil spill response facility and deepwater port in the Cordova area that could receive oil spill equipment from any location at all tides via an air-to-ground-to-response-vessel or cargo vessel-to-response-vessel transportation sequence;

• Accommodate existing and foreseeable future oil spill response and cargo vessels with deeper drafts than the current capabilities of existing facilities in the area; and,

* Include an adequately sized area for staging and storing response equipment that would be contiguous to the dock.

The project is needed to improve and enhance Cordova's existing oil spill response capabilities and to maximize the efficiency with which Cordova could support a response effort. The project would allow for transfer of response material from the all-weather Cordova Airport to the full range of response vessels, at any tide. It would also allow the most efficient use of the resources that are already available in the Cordova area, including trained oil spill responders, a large fleet of fishing vessels, the all-weather airport and a large amount of pre-positioned response equipment. Chapter 1 of the FEIS provides additional information concerning the purpose and need for this project.

Five alternatives, including a no action alternative, are evaluated in the FEIS. Fill dock and piling dock design variants are identified for all of the build alternatives, and four road options are examined for Alternative 4 at Shepard Point.

In Alternative 1, the no action alternative, no new or improved facilities would be constructed. Existing oil spill response capabilities in Cordova and Prince William Sound would continue to serve. However, the no action alternative would not meet the purpose and need for improvements to existing capabilities, nor would it fulfill the requirements of the Alyeska Consent Decree.

For Alternatives 2, 3 and 5, dredging would be required to insure all-tide access for all likely oil spill response vessels. The deepest draft design vessels require minimum water depths of -32 feet (ft) mean lower low water (MLLW) at the dock and -35 ft MLLW in navigational channels and turning basins. Dredging of the shoal in the Eastern Channel would be required for Alternatives 2, 3, and 5 and would improve the existing deep-draft channel by providing a 350-ft wide channel with a minimum clearance depth of -35 ft MLLW between the relatively deep water at the Cordova waterfront and the deep water in Orca Bay and the open sea.

For Alternative 2, located at Ocean Dock, there are two design variants; Alternative 2A, which is a new facility with a fill dock, and Alternative 2B, which is a new facility with a pile-supported dock. Alternative 2A would replace the existing Ocean Dock, a pile-supported dock measuring approximately 400-by-75 ft, with a new fill dock. Under Alternative 2B, the existing Ocean Dock would be removed and replaced with a new, smaller (360 by 60 feet), pile-supported dock.

For Alternative 3, located at Fleming Point, there are two design variants; Alternative 3A, which is a new facility with a fill dock, and Alternative 3B, which is a new facility with a pile-supported dock. Alternative 3A consists of constructing a new fill dock and upland staging area at Fleming Point. The new fill dock would have a 600-ft-long face and would provide 3.5 acres for spill response equipment storage and operations. Alternative 3B would provide a new pile-supported dock of about 350-by-60 ft.

For Alternative 4, located at Shepard Point, there are two dock design variants; Alternative 4A, with a fill dock with a 600-ft-long face, and Alternative 4B with a pile-supported dock of about 350-by-60 ft. Additionally, there are four potential road alignments. All options would include construction of a new road from Orca to Shepard Point and a new dock and staging area of 3.5 acres at Shepard Point. A new boat launch ramp would also be constructed to launch smaller boats and skiffs due to the distance of this location from existing boat launch ramps in Cordova. Dredging would not be required for Alternative 4.

Alternative 4A, with the Inland Alternate Route road alignment, has been selected as the preferred alternative based on the key parameters of the purpose and need, and the characteristics of the various alternatives. In examining the characteristics of the alternative facilities, the BIA has identified Alternative 4 (Shepard Point) as the preferred alternative for the following reasons: 1) It meets the need established in the Alyeska Consent Decree for a deepwater, all-tide access, oil spill response facility, and 2) construction of the facility at Shepard Point provides natural deepwater access without initial or maintenance dredging (including disposal of dredged material) of a channel for all-tide access, as would be necessary for Alternatives 2, 3, and 5. In addition, construction and operation of a facility at Shepard Point would avoid adverse dock impacts associated with other alternatives, such as potential oil spill response conflicts with other uses and marine traffic in the existing harbor area, potential contamination associated with oiled vessels in the main harbor area, and impacts to existing recreation and tourism facilities. With regard to potential economic benefits, construction and operation of Shepard Point would provide road access to the existing Humpback Creek hydroelectric facility and, unlike other sites, has room for upland expansion of the staging area behind the dock. Finally, the funds allocated specifically for the Shepard Point alternative through the Alyeska Consent Decree and action by the Alaska Legislature would not be available for expenditure on other alternatives without approval of the Alaska Governor and Legislature.

The access road that would accompany either Alternative 4A or 4B would be chosen from one of four proposed routes:

• Primary Alignment—The new, two-lane, unpaved access road to Shepard Point would start at Orca and continue approximately 4.4 miles to Shepard Point. Bridges would cross Humpback Creek and Unnamed Creek. All other drainages along the route would be crossed using culverts. The new access road to Shepard Point would require approximately 350,000 cubic yards (cy) and 26 acres of fill below the high tide line.

• Upland Alternate Route (Road Option 1)—Road Option 1 follows the Primary Alignment to mile 1.68, diverges from the coastline and follows a steep upland route for 1.27 miles, then returns to the Primary Alignment coastal route just prior to the Humpback Creek Bridge for the remaining 1.37 miles. Compared with the Primary Alignment, Road Option 1 would reduce fill by about 5.5 acres and 60,000 cy, but would require the excavation or clearing of an additional 6.0 acres of forest.

• Humpback Creek Alternate Bridge Site (Road Option 2)—This access road option would follow the same route as the Primary Alignment, except that the bridge crossing at Humpback Creek would occur in the upper delta, above the Primary Alignment bridge site. There would be little change in the length of the road from that of the Primary Alignment, but placement of fill in the Humpback Creek estuary would be eliminated and there would be a decrease in total tideland fill by approximately 0.7 acre. Much more rock excavation, however, would be necessary due to the Humpback Creek bridge approaches.

• Inland Alternate Route (Road Option 3) (Preferred Road Alignment)—This access road option follows the same route as the Primary Alignment to mile 1.68, then diverges from the coastline and follows a steep inland route, returning then to the Primary Alignment coastal route just north of the Humpback Creek Delta. In response to comments on the DEIS requesting reduced impacts associated with fill, the preferred road alignment has been redesigned for one-lane traffic, with pullouts in coastal areas requiring fill below the hide tide line. The inland road portions have steep grades where the road bypasses Orca Cannery by deviating inland and where the road deviates inland to avoid the Unnamed Creek and Humpback Creek estuaries; these sections would have two lanes to provide additional margins of safety and reliability. Compared with the Primary Alignment, Road Option 3 would reduce the fill below the high tide line by 15.1 acres and 190,000 cy, but would increase terrestrial habitat excavation and/or clearing by 11.0 acres.

For Alternative 5, located at Orca, there are two design variants; Alternative 5A, which is a new facility with a fill dock with a 600-ft-long face, and Alternative 5B, which is a new facility with a pile-supported dock of about 350-by-60 ft. Alternative 5A would include construction of a new fill dock and an upland staging area at the Orca site, and would require Orca Cannery Road to be rerouted around the back of the staging area. For both of the dock design variants, the dock and 3.5-acre staging area would be used for storage of response equipment and for response operations.

Public Comment Availability

Comments, including names and home addresses of respondents, will be available for public review at the BIA address shown above, during regular business hours, 8 a.m. to 5 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with Section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.1.

Dated: December 18, 2006.
Michael D. Olsen,
Principal Deputy Assistant Secretary—Indian Affairs.

[FR Doc. E6-22142 Filed 12-26-06; 8:45 am]

BILLING CODE 4310-W7-P